DEPARTMENT OF JUSTICE

Antitrust Division

Notice Pursuant to the National Cooperative Research and Production Act of 1993—Long Term Implantable Glucose Monitor

Notice is hereby given that, on September, 27, 2001, pursuant to section 6(a) of the National Cooperative Research and Production Act of 1993, 15 U.S.C. 4301 et seq., (“the Act”), Animas Corporation and Sarnoff Corporation, as a joint research venture, have filed written notifications simultaneously with the Attorney General and the Federal Trade Commission disclosing (1) the identities of the parties and (2) the nature and objectives of the venture. The notifications were filed for the purpose of invoking the Act's provisions limiting the recovery of antitrust plaintiffs to actual damages under specified circumstances.

Pursuant to section 6(b) of the Act, the identifies of the parties are Animas Corporation, Frazer, PA; and Sarnoff Corporation, Princeton, NJ.

The nature and objectives of the venture are to develop and demonstrate a long term implantable glucose monitor.

Constance K. Robinson,
Director of Operations, Antitrust Division.

[FR Doc. 02-1542 Filed 1-18-02; 8:45 am]

BILLING CODE 4410-11-M